DEPARTMENT OF HOMELAND SECURITY

Bureau of Customs and Border Protection

DEPARTMENT OF THE TREASURY

19 CFR Parts 4, 10, 12, 18, 19, 101, 122, 123, 141, 162, 163, 171 and 181

[CBP Dec. 04-28]

Technical Corrections to Customs and Border Protection Regulations

AGENCY: Customs and Border Protection; Department of Homeland Security.

ACTION: Final rule.

SUMMARY: Customs and Border Protection (CBP) periodically reviews its regulations to ensure that they are current, correct and consistent. Through this review process, CBP noted several discrepancies. This document remedies these discrepancies.

DATES: Effective August 27, 2004.

FOR FURTHER INFORMATION CONTACT: Christopher W. Pappas, Regulations Branch, Office of Regulations and Rulings, 202-572-8769.

SUPPLEMENTARY INFORMATION:

Background

It is the policy of Customs and Border Protection (CBP) to periodically review its regulations to ensure that they are as accurate and up-to-date as possible so that the importing and general public are aware of CBP programs, requirements, and procedures regarding import-related activities. As part of this review policy, CBP has determined that certain changes are necessary affecting parts 4, 10, 12, 18, 19, 101, 102, 122, 123, 141, 162, 163, 171 and 181 of the CBP Regulations (19 CFR parts 4, 10, 12, 18, 19, 101, 102, 122, 123, 141, 162, 163, 171 and 181).

Section 4.13 of the CBP Regulations (19 CFR 4.13) is based on 19 U.S.C. 1707, which was repealed by Public Law 104-295 of October 11, 1996. Accordingly, this document removes and reserves § 4.13.

Section 10.33 of the CBP Regulations (19 CFR 10.33) is being amended to correct a reference to the Harmonized Tariff Schedule of the United States (HTSUS) subheading 9813.00.65. This subheading was abolished by Presidential Proclamation 6763, the Uruguay Round of Multilateral Trade Negotiations, and for Other Purposes, of December 23, 1994. The same proclamation added, in Subchapter XVII of Chapter 98, HTSUS, subheading “9817.00.98 Theatrical scenery, properties and apparel brought into the United States by proprietors or managers of theatrical, ballet, opera or similar productions or exhibitions arriving from abroad for temporary use by them in such productions or exhibitions.” Accordingly, this document amends the HTSUS subheading in § 10.33 to read subheading 9817.00.98.

The authority for § 12.6, CBP Regulations (19 CFR 12.6) is being corrected. The current authority citation for § 12.6 includes a citation to “19 U.S.C. 1303” which has been repealed. Accordingly, this document revises the authority citation for § 12.6 by removing that authority.

Section 12.38, CBP Regulations (19 CFR 12.38) contains an outdated reference to § 171.22(b). Section 171.22(b) was removed by a final rule published in the Federal Register (65 FR 53565) on September 5, 2000. Accordingly, this document amends § 12.38 by removing the outdated reference to § 171.22(b).

References to the “Interstate Commerce Commission” (ICC) in the heading of § 18.9, CBP Regulations (19 CFR 18.9) and in § 18.9(a) are outdated. The ICC Termination Act of 1995 (Public Law 104-88, 109 Stat. 803), enacted December 29, 1995, and effective January 1, 1996, eliminated the ICC and transferred the functions referenced in § 18.9 to the Surface Transportation Board. Accordingly, this document corrects these references to read the “Surface Transportation Board.”

There is an incorrect reference in § 19.12 of the CBP Regulations (19 CFR 19.12). Section 19.12(d)(4)(ii) refers to an exception to the requirement that a warehouse proprietor “file [a] permit folder with Customs “ [in] paragraph (b)(4)(iv) of this section.” This exception is found in § 19.12(d)(4)(iv), “Exemption to submission requirement.” Accordingly, this document amends § 19.12(d)(4)(ii) to reflect the correct reference.

Section 101.3 of the CBP Regulations (19 CFR 101.3) contains a table listing ports of entry by state along with the limits of each port. The limits of several ports were changed in T.D. 35546, T.D. 37386, T.D. 37439, T.D. 22305 and T.D. 39882; however, these changes were not reflected in the CBP Regulations. Accordingly, this document adds references to these Treasury Decisions in the “Limits of port” column in § 101.3. In addition, this document corrects the spelling of the Aguadilla port.

Section 101.4(c) of the CBP Regulations (19 CFR 101.4(c)) contains a table listing customs stations along with the supervisory port of entry for each station. The supervisory port of entry for the customs station of Antelope Wells, New Mexico, is no longer Rio Grande City, Texas. The supervisory port of entry for Antelope Wells is now Columbus, New Mexico. Accordingly, this document amends § 101.4(c) to reflect the correct supervisory port of entry.

Section 122.27(b) of the CBP Regulations (19 CFR 122.27(b)) contains a reference to the regulations of the “Export Administration (15 CFR parts 368 through 399).” These regulations are currently found at 15 CFR parts 730-774 and are referred to as the Export Administration Regulations. Accordingly, this document amends § 122.27(b) to reflect this name change and new citation.

Similarly, § 122.62(b) and (c) contain two references to the “Office of Export Administration” and two references to the “Export Control Regulations (15 CFR part 370).” The Office of Export Administration ceased to exist in 1988 when it was reformed as the Bureau of Export Administration. The Department of Commerce, through an internal organizational order on April 18, 2002, changed the name of the Bureau of Export Administration to the Bureau of Industry and Security (BIS). As discussed above, the Bureau of Industry and Security regulations are currently found at 15 CFR parts 730-774 and are referred to as the Export Administration Regulations. Accordingly, this document amends § 122.62(b) and (c) to reflect these name changes and new citation.

Section 123.1 of the CBP Regulations (19 CFR 123.1) contains a citation to 8 CFR 235.13 as the section relating to the PORTPASS program, a section which no longer exists. The PORTPASS regulations are now at 8 CFR 235.7. This document amends § 123.1(a) accordingly.

Sections 141.4(b)(4) and (d) of the CBP Regulations (19 CFR 141.4(b)(4) and (d)) reference Subchapter V, Chapter 99 of the HTSUS, particularly subheadings 9905.86.05 and 9905.86.10, HTSUS. Subchapter V, Chapter 99, HTSUS, was temporary in nature and only covered goods falling within its provisions through the close of December 31, 1998. Accordingly, this document amends § 141.4(b)(4) by removing the reference to “Chapter 99, Subchapter V, U.S. Note 9, HTSUS” and revises § 141.4(d) by removing the references to subheadings 9905.86.05 and 9905.86.10, HTSUS.

The dollar amount in § 162.76(c) of the CBP Regulations (19 CFR 162.76(c)) is changed by this document from $500 to $1000. This change conforms to 19 U.S.C. 1584(b)(1) as amended by section 3118(1) of Public Law 99-570 of October 27, 1986, “The Anti-Drug Abuse Act of 1986.”

The List of Records Required for an Entry of Merchandise set forth in the Appendix to part 163 of the CBP Regulations (19 CFR part 163) is also corrected by this document. Section IV of the Appendix incorrectly attributes 19 CFR 133.21(b)(6) of the CBP Regulations as the authority for the entry records requirement “Consent from trademark or trade name holder to import otherwise restricted goods.” This document removes the incorrect citation and adds the correct citations: 19 CFR 133.21(e), 133.22(c)(3) and 133.23(c).

Sections 171.51(b)(7) and 171.52(a), CBP Regulations (19 CFR 171.51(b)(7) and 171.52(a)) concern expedited petitioning procedures for administrative forfeiture proceedings for property subject to forfeiture under 19 U.S.C. 1595a, 21 U.S.C. 881, and 49 U.S.C. 80303. Sections 171.51(b)(7) and 172.52(a), and the specific authority citation for subpart F, currently set forth references to 19 U.S.C. 1595a, 21 U.S.C. 881, and 49 U.S.C. 80303. Section 888 of title 21 of the U.S. Code (21 U.S.C. 888), the basis for the expedited procedures for conveyances seized under 21 U.S.C. 881 and 49 U.S.C. 80303, was repealed by section 2(c)(3) of the Civil Asset Forfeiture Reform Act of 2000, Public Law 106-185 of April 25, 2000 (CAFRA). Title 19, however, is explicitly exempt from the CAFRA (See section 2(i)(2)(A) of the CAFRA). Accordingly, this document removes the incorrect references.

Finally, the specific authority for subpart D of part 181, CBP Regulations (19 CFR part 181) was inadvertently omitted from part 181. Accordingly, this document adds the specific authority: 19 U.S.C. 1520(d).

Administrative Procedure Act, the Regulatory Flexibility Act and Executive Order 12866

Because these amendments merely conform with existing law or regulation, notice and public procedure are unnecessary. For the same reason, pursuant to 5 U.S.C. 553(d)(3), a delayed effective date is not required. Because no notice of proposed rulemaking is required, the provisions of the Regulatory Flexibility Act (5 U.S.C. 601 et seq.) do not apply. Nor do these amendments meet the criteria for a “significant regulatory action” as specified in Executive Order 12866.

Delegations of Authority: Signature of Customs and Border Protection Regulations

This document is limited to technical corrections of CBP Regulations. Accordingly, it is being signed under the authority of 19 CFR 0.1(b).

Drafting Information

The principal author of this document was Christopher W. Pappas, Regulations Branch, Office of Regulations and Rulings, CBP. However, personnel from other offices participated in its development.

List of Subjects

19 CFR Part 4

Cargo vessels, Customs duties and inspection, Freight, Imports, Inspection, Maritime carriers, Merchandise, Shipping, Vessels.

19 CFR Part 10

Art, Customs duties and inspection, Entry, Imports, Preference programs, Shipments.

19 CFR Part 12

Customs duties and inspection, Entry of merchandise, Imports, Reporting and recordkeeping requirements.

19 CFR Part 18

Customs duties and inspection, Imports.

19 CFR Part 19

Customs duties and inspection, Imports, Reporting and recordkeeping requirements, Warehouses.

19 CFR Part 101

Customs duties and inspection, Customs ports of entry, Imports, Reporting and recordkeeping requirements.

19 CFR Part 122

Administrative practice and procedure, Imports, Reporting and recordkeeping requirements.

19 CFR Part 123

Canada, Customs duties and inspection, Freight, Imports, International boundaries (Land border), International traffic, Vehicles.

19 CFR Part 141

Customs duties and inspection, Entry of merchandise, Release of merchandise.

19 CFR Part 162

Drug traffic control, Law enforcement, Prohibited merchandise.

19 CFR Part 163

Customs duties and inspection, Reporting and recordkeeping requirements.

19 CFR Part 171

Law enforcement, Penalties, Seizures and forfeitures.

19 CFR Part 181

Customs duties and inspection, Imports, Reporting and recordkeeping.

Amendments to the Regulations

This document amends parts 4, 10, 12, 18, 19, 101, 122, 123, 141, 162, 163, 171 and 181, CBP Regulations (19 CFR part 4, 10, 12, 18, 19, 101, 122, 123, 141, 162, 163, 171 and 181), making technical corrections. These corrections are set forth below.

PART 4—VESSELS IN FOREIGN AND DOMESTIC TRADES

1. The general authority citation for part 4 continues to read as follows:

Authority: 5 U.S.C. 301; 19 U.S.C. 66, 1431, 1433, 1434, 1624; 46 U.S.C. App. 3, 91.

* * * * *

2. Section 4.13 of the CBP Regulations is removed and reserved.

PART 10—ARTICLES CONDITIONALLY FREE, SUBJECT TO A REDUCED RATE, ETC.

3. The general authority citation for part 10 continues to read as follows:

Authority: 19 U.S.C. 66, 1202 (General Note 23, Harmonized Tariff Schedule of the United States (HTSUS)), 1321, 1481, 1484, 1498, 1508, 1623, 1624, 3314;

* * * * *

§ 10.33 [Amended]

4. In § 10.33, the subheading number “9813.00.65” is removed from the introductory text and in its place the subheading number “9817.00.98” is added.

PART 12—SPECIAL CLASSES OF MERCHANDISE

5. The general authority citation for part 12 continues to read and the specific authority citation for § 12.6 is revised as follows:

Authority: 5 U.S.C. 301; 19 U.S.C. 66, 1202 (General Note 23, Harmonized Tariff Schedule of the United States (HTSUS)), 1624;

* * * * *

Section 12.6 also issued under 7 U.S.C. 1854;

* * * * *

§ 12.38 [Amended]

6. Section 12.38 is amended by removing the phrase “(see 171.22(b) of this chapter)”.

PART 18—TRANSPORTATION IN BOND AND MERCHANDISE IN TRANSIT

7. The general authority citation in part 18 continues to read as follows:

Authority: 5 U.S.C. 301; 19 U.S.C. 66, 1202 (General Note 23, Harmonized Tariff Schedule of the United States), 1551, 1552, 1553, 1623, 1624.

* * * * *

§ 18.9 [Amended]

8. In § 18.9, the section heading and paragraph (a) are revised to read as follows:

§ 18.9 Examination by inspectors of trunk line associations or agents of the Surface Transportation Board.

(a) Upon presentation of proper credentials showing the applicant to be a representative of the Trunk Line Association, the Surface Transportation Board, the Joint Rate Inspection Bureau of Chicago or the Southern Weighing and Inspection Bureau of Atlanta, inspectors of CBP in charge will permit such applicant to examine packages containing in-bond merchandise described in the manifest in general terms for the purpose of ascertaining whether the merchandise is properly classified under the interstate commerce laws.

* * * * *

PART 19—CUSTOMS WAREHOUSES, CONTAINER STATIONS AND CONTROL OF MERCHANDISE THEREIN

9. The general authority citation for part 19 continues to read as follows:

Authority: 5 U.S.C. 301; 19 U.S.C. 66, 1202 (General Note 23, Harmonized Tariff Schedule of the United States), 1624;

* * * * *

§ 19.12 [Amended]

10. The citation in § 19.12(d)(4)(ii) to “(b)(4)(iv)” is removed, and the citation “(d)(4)(iv)” is added in its place.

PART 101—GENERAL PROVISIONS

11. The general authority citation for part 101 and specific authority citation for §§ 101.3 and 101.4 continue to read as follows:

Authority: 5 U.S.C. 301; 19 U.S.C. 2, 66, 1202 (General Note 23, Harmonized Tariff Schedule of the United States), 1623, 1624, 1646a.

Sections 101.3 and 101.4 also issued under 19 U.S.C. 1 and 58b;

* * * * *

§ 101.3 [Amended]

12. The list of ports in § 101.3(b)(1) is amended by:

a. Under the listing for “California” adjacent to “Port San Luis” in the “Ports of entry” column, adding “T.D. 35546” in the “Limits of port” column;

b. Under the listing for “North Dakota”, adjacent to “Northgate” in the “Ports of entry” column, adding “T.D. 37386, T.D. 37439” in the “Limits of port” column;

c. Under the listing for “Puerto Rico”, removing the word “Aquadilla” in the “Ports of entry” column, and adding in its place “Aguadilla” and by adding “T.D. 22305” in the “Limits of port” column adjacent to that entry; and

d. Adding “T.D. 39882” under “Washington” in the “Limits of port” column adjacent to “Nighthawk”.

13. In the list of customs stations and supervisory ports of entry in § 101.4(c), under the state of New Mexico, the “Supervisory port of entry” column adjacent to “Antelope Wells (Mail: Hachita, NM)” in the “Customs station” column is amended by removing “Rio Grande City, TX” and by adding in its place “Columbus, NM”.

PART 122—AIR COMMERCE REGULATIONS

14. The general authority citation for part 122 continues to read as follows:

Authority: 5 U.S.C. 301; 19 U.S.C. 58b, 66, 1431, 1433, 1436, 1448, 1459, 1590, 1594, 1623, 1624, 1644, 1644a.

* * * * *

§ 122.27 [Amended]

15. In § 122.27(b)(2), the words “Export Administration (15 CFR parts 368 through 399) regulations” are removed and in their place the words “Export Administration Regulations (15 CFR parts 730 through 774)” are added.

§ 122.62 [Amended]

16. In § 122.62:

a. In paragraph (b), the heading and first sentence are amended by removing the words “Office of Export Administration” and adding in their place the words “Bureau of Industry and Security”;

b. In paragraph (b), the first sentence is further amended by removing the words “Export Control Regulations (15 CFR part 370)” and adding in their place the words “Export Administration Regulations (15 CFR parts 730 through 774)”; and

c. In paragraph (c), the first sentence is amended by removing the words “Export Control Regulations” and adding in their place the words “Export Administration Regulations.”

PART 123—CUSTOMS RELATIONS WITH CANADA AND MEXICO

17. The general authority citation for part 123 and the specific authority citation for § 123.1 continue to read as follows:

Authority: 19 U.S.C. 66, 1202 (General Note 23, Harmonized Tariff Schedule of the United States (HTSUS)), 1431, 1433, 1436, 1448, 1624.

Section 123.1 also issued under 19 U.S.C. 1459;

* * * * *

§ 123.1 [Amended]

18. The citation in § 123.1(a) to “8 CFR 235.13” is removed, and the citation “8 CFR 235.7” is added in its place.

PART 141—ENTRY OF MERCHANDISE

19. The general authority citation for part 141 and the specific authority citation for § 141.4 continue to read as follows:

Authority: 19 U.S.C. 66, 1448, 1484, 1624.

* * * * *

Section 141.4 also issued under 19 U.S.C. 1202 (General Note 19; Chapter 86, Additional U.S. Note 1; Chapter 89, Additional U.S. Note 1; Chapter 98, Subchapter III, U.S. Notes 3 and 4; Harmonized Tariff Schedule of the United States), 1498;

* * * * *

§ 141.4 [Amended]

20. In § 141.4, paragraph (b)(4) is amended by removing the words “Chapter 99, Subchapter V, U.S. Note 9, HTSUS;” and paragraph (d) is revised. The revision reads as follows:

§ 141.4 Entry required.

* * * * *

(d) Railway locomotives and freight cars. For railway locomotives and freight cars described in Additional U.S. Note 1 of Chapter 86, HTSUS, to be excepted and released in accordance with paragraph (b)(4) of this section, the importer must first file a bond on CBP Form 301, containing the bond conditions set forth in either § 113.62 or 113.64 of this chapter.

* * * * *

PART 162—INSPECTION, SEARCH, AND SEIZURE

21. The general authority citation for part 162 continues to read as follows:

Authority: 5 U.S.C. 301; 19 U.S.C. 66, 1592, 1593a, 1624.

* * * * *

§ 162.76 [Amended]

22. In § 162.76(c), the dollar amount “$500” is removed, and the dollar amount “$1,000” is added in its place.

PART 163—RECORDKEEPING

23. The authority citation for part 163 continues to read as follows:

Authority: 5 U.S.C. 301; 19 U.S.C. 66, 1484, 1508, 1509, 1510, 1624.

Appendix to Part 163—[Amended]

24. The Appendix to part 163 is amended by removing from listing IV the citation “§ 133.21(b)(6)” just prior to the words “Consent from trademark or trade name holder to import otherwise restricted goods” and by adding in its place, “§§ 133.21(e), 133.22(c)(3) and 133.23(e)”.

PART 171—FINES, PENALTIES, AND FORFEITURES

25. The general authority citation for part 171 continues to read and the specific authority citation for subpart F is revised to read as follows:

Authority: 18 U.S.C. 983; 19 U.S.C. 66, 1592, 1593a, 1618, 1624; 22 U.S.C. 401; 31 U.S.C. 5321; 46 U.S.C. App. 320.

Subpart F also issued under 19 U.S.C. 1595a, 1605, 1614.

§ 171.51 [Amended]

26. In § 171.51(b)(7), the citations “21 U.S.C. 881(a)(4), (6), and (7);” and “,and 49 U.S.C. 80303” are removed.

§ 171.52 [Amended]

27. In § 171.52(a), the citations “21 U.S.C. 881(a)(4), (6) or (7),” and “and/or 49 U.S.C. 80303” are removed.

PART 181—NORTH AMERICAN FREE TRADE AGREEMENT

28. The general authority for part 181 continues to read and a new specific authority for subpart D of part 181 is added to read as follows:

Authority: 19 U.S.C. 66, 1202 (General Note 23, Harmonized Tariff Schedule of the United States), 1624, 3314.

Subpart D of part 181 also issued under 19 U.S.C. 1520(d).

Dated: August 23, 2004.
Robert C. Bonner,
Commissioner, Customs and Border Protection.

[FR Doc. 04-19577 Filed 8-26-04; 8:45 am]

BILLING CODE 4820-02-P